DEPARTMENT OF THE INTERIOR

National Park Service

Grand Ditch Breach Restoration Environmental Impact Statement, Rocky Mountain National Park, CO

AGENCY: National Park Service, Department of the Interior.

ACTION: Notice of Intent to prepare an Environmental Impact Statement for the Grand Ditch Breach Restoration, Rocky Mountain National Park, Colorado.

SUMMARY: Pursuant to the National Environmental Policy Act of 1969, 42 U.S.C. 4332(2)(C), the National Park Service is preparing an Environmental Impact Statement for the Grand Ditch Breach Restoration, Rocky Mountain National Park, Colorado. This effort will result in ecological restoration of the area affected by the 2003 Grand Ditch Breach. Alternatives to be considered will likely include a combination of the following: Allowing natural (passive) restoration to occur where appropriate; stabilizing steep, unstable slopes with an engineered solution; removing deposited sediment and redistributing it through the impacted area or elsewhere; removing dead timber from the impacted area and/or using it in the restoration process; regrading and recontouring areas to restore appropriate morphology and function; native plant restoration with appropriate, locally gathered plant materials; may require the use of motorized equipment such as chainsaws, heavy lift helicopters, and earthmoving equipment; may require temporary fencing to protect native plant restoration areas.

Major issues to be considered in this restoration planning process include short-and-long-term potential impacts to: Wilderness character; geological resources; geological hazards; soundscapes; surface and groundwater hydrology; stream channel, floodplain and wetland morphology and function; water quality; riparian and wetland communities; species of special concern (plants and animals); wildlife habitat; aquatic habitat; visitor experience; long-term resource productivity; archeological and historical sites.

A scoping brochure has been prepared that details the issues identified to date. Copies of that information may be obtained from the Public Information Office, Rocky Mountain National Park, 1000 U.S. Highway 36, Estes Park, Colorado 80517-8397, (970) 586-1206.

DATES: The Park Service will accept comments from the public through June 16, 2010.

ADDRESSES: Information will be available for public review and comment online at http://parkplanning.nps.gov/romo, and from the Public Information Office, Rocky Mountain National Park, 1000 U.S. Highway 36, Estes Park, Colorado 80517-8397.

FOR FURTHER INFORMATION CONTACT: Public Information Office, Rocky Mountain National Park, 1000 U.S. Highway 36, Estes Park, Colorado 80517-8397, (970) 586-1206, romo_information@nps.gov.

SUPPLEMENTARY INFORMATION: If you wish to comment on the scoping brochure or on any other issues associated with the plan, you may submit your comments by any one of several methods. You may mail comments to: Superintendent, Rocky Mountain National Park, 1000 U.S. Highway 36, Estes Park, Colorado 80517-8397. You may also comment via the Internet at http://parkplanning.nps.gov/romo. Finally, you may hand-deliver comments to: Superintendent, Rocky Mountain National Park, 1000 U.S. Highway 36, Estes Park, Colorado 80517-8397. Before including your address, phone number, e-mail address, or other personal identifying information in your comment, you should be aware that your entire comment—including your personal identifying information—may be made publicly available at any time. While you can ask us in your comment to withhold your personal identifying information from public review, we cannot guarantee that we will be able to do so.

Dated: January 11, 2010.
Mike Snyder,
Director, Intermountain Region, National Park Service.

[FR Doc. 2010-5869 Filed 3-17-10; 8:45 am]

BILLING CODE P